DEPARTMENT OF COMMERCE

National Oceanic and Atmospheric Administration

RIN 0648-XC473

Western Pacific Fishery Management Council; Public Meetings

AGENCY: National Marine Fisheries Service (NMFS), National Oceanic and Atmospheric Administration (NOAA), Commerce.

ACTION: Notice of a public meeting.

SUMMARY: The Western Pacific Fishery Management Council (Council) will hold the 112th meeting of its Scientific and Statistical Committee (SSC).

DATES: The SSC will meet on February 26-28, 2013, between 8:30 a.m. and 5 p.m. For specific times and agendas, see SUPPLEMENTARY INFORMATION.

ADDRESSES: The 112th SSC meeting will be held at the Council office, 1164 Bishop Street, Honolulu, HI 96813; telephone: (808) 522-8220.

FOR FURTHER INFORMATION CONTACT: Kitty M. Simonds, Executive Director; telephone: (808) 522-8220.

SUPPLEMENTARY INFORMATION: Public comment periods will be provided throughout the agenda. The order in which agenda items are addressed may change. The meeting will run as late as necessary to complete scheduled business.

Schedule and Agenda

8:30 a.m.-5 p.m. Tuesday, February 26, 2013

1. Introductions.

2. Approval of Draft Agenda and Assignment of Rapporteurs.

3. Status of the 111th SSC Meeting Recommendations.

4. Report from the Pacific Islands Fisheries Science Center Director.

5. Insular Fisheries.

A. Report on State Evaluation of Bottomfish Restricted Fishing Areas through BotCam Research.

B. Public Comment.

C. SSC Discussion and Recommendations.

6. Program Planning.

A. Progress of NMFS Science Plan.

B. Methods for Acceptable Biological Catch Specifications.

C. Public Comment.

D. SSC Discussion and Recommendations.

8:30 a.m.-5 p.m. Wednesday, February 27, 2013

7. Pelagic Fisheries.

A. Action Item.

1. Management Options for American Samoa South Pacific Albacore Fishery.

B. Levels of Observer Coverage in the Shallow-Set Swordfish Fishery: Report of Working Group.

C. American Samoa and Hawaii Longline Quarterly Reports.

D. International Fisheries Meetings.

1. Ninth Regular Session of the Western and Central Pacific Fisheries Commission (WCPFC 9).

E. Public Comment.

F. SSC Discussion and Recommendations.

8. Protected Species.

A. False Killer Whale Assessments: Report of SSC Subcommittee.

B. Update on Endangered Species Act (ESA) and Marine Mammal. Protection Act (MMPA) Actions.

1. Final False Killer Whale Take Reduction Plan.

2. Final Rule to List the Main Hawaiian Islands Insular False Killer Whales as Endangered under the ESA.

3. Proposed Rule to List 66 Species of Coral as Endangered or Threatened under the ESA.

C. Update on the Monk Seal Recovery Program.

D. Public Comment.

E. SSC Discussion and Recommendations.

8:30 a.m.-5 p.m. Thursday, February 28, 2013

9. Other Business.

A. 113th SSC Meeting.

10. Summary of SSC Recommendations to the Council.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 28, 2013.
Tracey L. Thompson,
Acting Deputy Director, Office of Sustainable Fisheries, National Marine Fisheries Service.

[FR Doc. 2013-02078 Filed 1-30-13; 8:45 am]

BILLING CODE 3510-22-P